DEPARTMENT OF COMMERCE

International Trade Administration

[A-122-863]

Large Diameter Welded Pipe From Canada: Amended Final Results of Antidumping Duty Administrative Review; 2020-2021

AGENCY: Enforcement and Compliance, International Trade Administration, Department of Commerce.

SUMMARY: The U.S. Department of Commerce (Commerce) is amending the final results of the administrative review of the antidumping duty order on large diameter welded pipe from Canada to correct ministerial errors. The period of review (POR) is May 1, 2020, through April 30, 2021.

DATES: Applicable December 29, 2022.

FOR FURTHER INFORMATION CONTACT: Irene Gorelik or Faris Montgomery, AD/CVD Operations, Office VIII, Enforcement and Compliance, International Trade Administration, U.S. Department of Commerce, 1401 Constitution Avenue NW, Washington, DC 20230; telephone: (202) 482-6905 or (202) 482-1537, respectively.

SUPPLEMENTARY INFORMATION:

Background

On November 18, 2022, Commerce disclosed its calculations to interested parties and provided interested parties with the opportunity to submit ministerial error comments.¹ On November 23, 2022, Commerce published its final results of administrative review.² On November 25, 2022, Evraz submitted allegations of ministerial errors in the Final Results.³ No other party made an allegation of ministerial errors. On November 30, 2022, the American Line Pipe Producers Association (Domestic Interested Party) rebutted Evraz's ministerial error allegations.⁴

¹ See Memorandum, “Deadline for Ministerial Error Comments for the Final Results,” dated November 18, 2022.

² See Large Diameter Welded Pipe from Canada: Final Results of Antidumping Duty Administrative Review; 2020-2021, 87 FR 71580 (November 23, 2022) (Final Results), and accompanying Issues and Decision Memorandum (IDM).

³ See Evraz Letter, “Ministerial Error Comments,” dated November 25, 2022 (Ministerial Error Allegations). Commerce extended the deadline for parties to file ministerial error allegations. See Commerce's Letter, “Deadline Extension Request for Submitting Ministerial Error Allegations,” dated November 23, 2022.

⁴ See Domestic Interested Party's Letter, “Response to Evraz's Ministerial Error Allegation,” dated November 30, 2022.

Legal Framework

Section 751(h) of the Tariff Act of 1930, as amended (the Act), defines a “ministerial error” as including “errors in addition, subtraction, or other arithmetic function, clerical errors resulting from inaccurate copying, duplication, or the like, and any other unintentional error which the administering authority considers ministerial.” With respect to final results of administrative reviews, 19 CFR 351.224(e) provides that Commerce “will analyze any comments received and, if appropriate, correct any ministerial error by amending . . . the final results of review . . . .”

Ministerial Errors

We agree with Evraz that Commerce made ministerial errors in the Final Results within the meaning of section 751(h) of the Act and 19 CFR 351.224(f). In the Final Results, we made certain revisions to the preliminary results,⁵ including revisions to the general and administrative (G&A) expense ratio and the scrap cost adjustment. In its ministerial error comments, Evraz alleged that in revising the basis of the G&A expense rate, Commerce: (1) double-counted certain line items in the G&A expense ratio and the cost data file and also; (2) consequently, double-counted line items which were reported as home market indirect selling expenses.⁶ Evraz also alleged that Commerce incorrectly included intra-company transfers in the scrap major input cost adjustment.⁷

⁵ See Final Results IDM at 3 and Comments 2, 3, 5, and 6.

⁶ See Ministerial Error Allegations at 1-4.

⁷ Id. at 4-5.

Commerce determines that it made ministerial errors in the Final Results pursuant to section 751(h) of the Act and 19 CFR 351.224(f) and has amended its calculations with regard to the G&A expense rate and the scrap cost adjustment.

For a complete discussion of the ministerial error allegations, as well as Commerce's analysis, see the accompanying Ministerial Error Memorandum.⁸ The Ministerial Error Memorandum is a public document and is on file electronically via ACCESS. ACCESS is available to registered users at https://access.trade.gov.

⁸ See Memorandum, “Administrative Review of the Antidumping Duty Order on Large Diameter Welded Pipe from Canada; 2020-2021: Ministerial Error Allegations in the Final Results,” dated concurrently with this notice Ministerial Error Memorandum).

Pursuant to 19 CFR 351.224(e), Commerce is amending the Final Results to reflect the correction of these ministerial errors in the calculation of the weighted-average dumping margin assigned to Evraz in the Final Results, which changes from 36.02 percent to 26.15 percent.

Amended Final Results

As a result of correcting the ministerial errors, Commerce determines that the following weighted-average dumping margin exists for the period May 1, 2020, through April 30, 2021:

⁹ In the underlying investigation, Commerce treated Evraz Inc. NA, Evraz Inc. NA Canada, and the Canadian National Steel Corporation (collectively, Evraz) as a single entity. See Large Diameter Welded Pipe from Canada: Antidumping Duty Order, 84 FR 18775, 18776 (May 2, 2019) (Order). There is no information on this record of this review that requires reconsideration of this single entity determination.

Exporter or producer | Weighted- average dumping margin (percent)
Evraz Inc. NA ⁹ | 26.15

Disclosure

We intend to disclose to parties in this proceeding under administrative protective order, the amended final results calculations performed within five days after publication of these amended final results in the Federal Register, in accordance with 19 CFR 351.224(b).

Assessment Rates

Pursuant to section 751(a)(2)(C) of the Act and 19 CFR 351.212(b), Commerce has determined, and U.S. Customs and Border Protection (CBP) shall assess, antidumping duties on all appropriate entries of subject merchandise in accordance with these amended final results of review. Commerce intends to issue assessment instructions to CBP no earlier than 41 days after the date of publication of the amended final results of this review in the Federal Register, in accordance with 19 CFR 356.8(a).

Pursuant to 19 CFR 351.212(b)(1), we calculated importer-specific ad valorem duty assessment rates based on the ratio of the total amount of dumping calculated for the examined sales to the total entered value of the sales for which entered value was reported. Where an importer-specific assessment rate is zero or de minimis, we will instruct CBP to liquidate the appropriate entries without regard to antidumping duties.

Commerce's “automatic assessment” practice will apply to entries of subject merchandise during the POR produced by Evraz for which the company did not know that the merchandise it sold to the intermediary (e.g., a reseller, trading company, or exporter) was destined for the United States. In such instances, we will instruct CBP to liquidate unreviewed entries at the all- others rate if there is no rate for the intermediate company(ies) involved in the transaction.¹⁰

¹⁰ For a full discussion of this practice, see Antidumping and Countervailing Duty Proceedings: Assessment of Antidumping Duties, 68 FR 23954 (May 6, 2003).

Cash Deposit Requirements

The following deposit requirements will be effective for all shipments of the subject merchandise entered, or withdrawn from warehouse, for consumption on or after the publication date of the final results of this administrative review, as provided by section 751(a)(2)(C) of the Act: (1) the cash deposit rate for Evraz will be equal to the weighted- average dumping margin that is established in the amended final results of this review, except if the rate is less than 0.50 percent and, therefore, de minimis within the meaning of 19 CFR 351.106(c)(1), in which case the cash deposit rate will be zero; (2) for previously investigated or reviewed companies not subject to this review, the cash deposit rate will continue to be the company-specific rate published for the most recently completed segment of this proceeding in which the company participated; (3) if the exporter is not a firm covered in this review, a prior review, or the original less-than-fair-value (LTFV) investigation, but the producer is, the cash deposit rate will be the rate established for the most recently completed segment of the proceeding for the producer of the merchandise; and (4) the cash deposit rate for all other producers and exporters will continue to be 12.32 percent ad valorem, the all-others rate established in the LTFV investigation.¹¹

¹¹ See Order.

These cash deposit requirements, when imposed, shall remain in effect until further notice.

Notification to Importers

This notice also serves as a final reminder to importers of their responsibility under 19 CFR 351.402(f)(2) to file a certificate regarding the reimbursement of antidumping duties prior to liquidation of the relevant entries during the POR. Failure to comply with this requirement could result in Commerce's presumption that reimbursement of antidumping duties occurred and the subsequent assessment of double antidumping duties.

Administrative Protective Order

This notice also serves as a reminder to parties subject to an administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a sanctionable violation.

Notification to Interested Parties

We are issuing and publishing this notice in accordance with sections 751(h) and 777(i)(1) of the Act, and 19 CFR 351.224(e).

Dated: December 22, 2022.
Lisa W. Wang,
Assistant Secretary for Enforcement and Compliance.

[FR Doc. 2022-28379 Filed 12-28-22; 8:45 am]

BILLING CODE 3510-DS-P